DEPARTMENT OF COMMERCE

National Oceanic and Atmospheric Administration

RIN 0648-XA134

Endangered and Threatened Species; Take of Anadromous Fish

AGENCY: National Marine Fisheries Service (NMFS), National Oceanic and Atmospheric Administration (NOAA), Commerce.

ACTION: Correction notice.

SUMMARY: On June 3, 2009, NMFS published a 30-day public comment period notice in the Federal Register for the receipt of applications for scientific research permits 13791 (applicant: Fishery Foundation of California) and 14092 (applicant: California Department of Fish and Game). In that notice, the permit application numbers were misidentified. This document corrects the June 3, 2009, document by providing the correct permit numbers.

FOR FURTHER INFORMATION CONTACT: Shirley Witalis at phone number (916) 930-3606, or e-mail shirley.witalis@noaa.gov.

SUPPLEMENTARY INFORMATION: In the Federal Register document of June 3, 2009 (74 FR 26651; Fr Doc. E9-12946) under the heading Applications Received (page 26651, column 3), permit 13675 was misidentified as permit 13791, and permit 14240 was misidentified as permit 14092. The first paragraph under the heading Applications Received (page 26651, column 3, sentence 1) should read as follows: “FFC requests a 5-year permit (13675) for take of juvenile Sacramento River winter-run Chinook salmon, Central Valley spring-run Chinook salmon, Central Valley steelhead, and juvenile North American green sturgeon associated with conducting surveys measuring fish response to initial and successional habitat conditions at a restored conservation bank site on the Sacramento River in the Central Valley, California.”

The second paragraph under the heading Applications Received (page 26651, column 3, sentence 1) should read as follows: “CDFG requests a 5-year permit (14240) for take of threatened Central Valley spring-run Chinook salmon, threatened Central Valley steelhead, and threatened Southern DPS of North American green sturgeon in the lower Feather River, associated with monitoring and research activities conducted in the Feather River basin, Central Valley, California.”

There are no changes to the remainder of the document.

Dated: January 10, 2011.
Therese Conant,
Acting Chief, Endangered Species Division, Office of Protected Resources, National Marine Fisheries Service.

[FR Doc. 2011-796 Filed 1-13-11; 8:45 am]

BILLING CODE 3510-22-P